DEPARTMENT OF HEALTH AND HUMAN SERVICES

Meeting of the Presidential Advisory Council on Combating Antibiotic-Resistant Bacteria

AGENCY: Office of the Assistant Secretary for Health, Office of the Secretary, Department of Health and Human Services.

ACTION: Notice.

SUMMARY: As stipulated by the Federal Advisory Committee Act, the Department of Health and Human Services (HHS) is hereby giving notice that a meeting of the Presidential Advisory Council on Combating Antibiotic-Resistant Bacteria (the Advisory Council) is scheduled for September 29, 2015, from 9:00 a.m. to 5:00 p.m. ET. The meeting will be open to the public; a public comment session will be held during the meeting. Pre-registration is required for members of the public who wish to attend the meeting and who wish to participate in the public comment session. Individuals who wish to attend the meeting and/or send in their public comment via email should email CARB@hhs.gov. Registration information is available on the Web site http://www.hhs.gov/ash/carb/ and must be completed by September 21, 2015; all in-person attendees must pre-register by this date. Additional information about registering for the meeting and providing public comment can be obtained at http://www.hhs.gov/ash/carb/.

DATES: The meeting is scheduled to be held on September 29, 2015, from 9:00 a.m. to 5:00 p.m. ET. Pre-registration for attending the meeting in person is required to be completed no later than September 21, 2015; public attendance at the meeting is limited to the available space.

ADDRESSES: U.S. Department of Health and Human Services, Hubert H. Humphrey Building, Great Hall, 200 Independence Avenue SW., Washington, DC 20201.

The meeting also can be accessed through a live webcast the day of the meeting. For more information, visit http://www.hhs.gov/ash/carb/.

FOR FURTHER INFORMATION CONTACT: Bruce Gellin, Designated Federal Official, Presidential Advisory Council on Combating Antibiotic-Resistant Bacteria, Office of the Assistant Secretary for Health, U.S. Department of Health and Human Services, Room 715H, Hubert H. Humphrey Building, 200 Independence Avenue SW., Washington, DC 20201. Phone: (202) 260-6638; email: CARB@hhs.gov.

SUPPLEMENTARY INFORMATION:

Under Executive Order 13676, dated September 18, 2014, authority was given to the Secretary of Health and Human Services to establish the Presidential Advisory Council on Combating Antibiotic-Resistant Bacteria (Advisory Council), in consultation with the Secretaries of Defense and Agriculture. Activities of the Advisory Council are governed by the provisions of Public Law 92-463, as amended (5 U.S.C. App.), which sets forth standards for the formation and use of federal advisory committees.

The Advisory Council will provide advice, information, and recommendations to the Secretary of HHS regarding programs and policies intended to support and evaluate the implementation of Executive Order 13676, including the National Strategy for Combating Antibiotic-Resistant Bacteria and the National Action Plan for Combating Antibiotic-Resistant Bacteria. The Advisory Council shall function solely for advisory purposes.

In carrying out its mission, the Advisory Council will provide advice, information, and recommendations to the Secretary regarding programs and policies intended to preserve the effectiveness of antibiotics by optimizing their use; advance research to develop improved methods for combating antibiotic resistance and conducting antibiotic stewardship; strengthen surveillance of antibiotic-resistant bacterial infections; prevent the transmission of antibiotic-resistant bacterial infections; advance the development of rapid point-of-care and agricultural diagnostics; further research on new treatments for bacterial infections; develop alternatives to antibiotics for agricultural purposes; maximize the dissemination of up-to-date information on the appropriate and proper use of antibiotics to the general public and human and animal healthcare providers; and improve international coordination of efforts to combat antibiotic resistance.

The September public meeting will be the inaugural meeting for the Advisory Council. The Advisory Council members will be sworn in and presented with an overview of different topics surrounding antibiotic resistance, including an overview of the National Strategy for Combating Antibiotic-Resistant Bacteria and Action Plan for Combating Antibiotic-Resistant Bacteria. The meeting agenda will be posted on the Advisory Council Web site at http://www.hhs.gov/ash/carb/ when it has been finalized.

Public attendance at the meeting is limited to the available space. Individuals who plan to attend and need special assistance, such as sign language interpretation or other reasonable accommodations, should notify the National Vaccine Program Office at the address/telephone number listed above at least one week prior to the meeting. For those unable to attend in person, a live webcast will be available. More information on registration and accessing the webcast can be found at http://www.hhs.gov/ash/carb/.

Members of the public will have the opportunity to provide comments prior to the Advisory Council meeting by emailing CARB@hhs.gov. Public comments should be sent in by midnight September 28, 2015, and should be limited to no more than one page. All public comments will be read during the public comment period designated on the agenda; limited to two minutes per comment.

Dated: August 19, 2015.
Bruce Gellin,
Deputy Assistant Secretary for Health, Designated Federal Official, Presidential Advisory Council on Combating Antibiotic-Resistant Bacteria.

[FR Doc. 2015-22920 Filed 9-10-15; 8:45 am]

BILLING CODE 4150-44-P